DEPARTMENT OF HOMELAND SECURITY

Federal Emergency Management Agency

[Docket ID: FEMA-2023-0034; OMB No. 1660-NW172]

Agency Information Collection Activities: Proposed Collection; Comment Request; Generic Clearance for FEMA's Preparedness Grant Programs

AGENCY: Federal Emergency Management Agency, Department of Homeland Security.

ACTION: 60-Day notice of new collection and request for comments.

SUMMARY: The Federal Emergency Management Agency (FEMA), as part of its continuing effort to reduce paperwork and respondent burden, invites the general public to take this opportunity to comment on a new information collection. In accordance with the Paperwork Reduction Act of 1995 (PRA), this notice seeks comments concerning a new generic collection to oversee FEMA's Office of Grants Administration programmatic and financial stewardship of non-disaster grant awards.

DATES: Comments must be submitted on or before February 12, 2024.

ADDRESSES: To avoid duplicate submissions to the docket, please submit comments at www.regulations.gov under Docket ID FEMA-2023-0034. Follow the instructions for submitting comments.

All submissions received must include the agency name and Docket ID.

Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Amy Bulgrien, Senior Advisor, FEMA, Office of Grants Administration at amy.bulgrien@fema.dhs.gov and 202-880-7522. You may contact the Information Management Division for copies of the proposed collection of information at email address: FEMA-Information-Collections-Management@fema.dhs.gov.

SUPPLEMENTARY INFORMATION: FEMA's Office of Grants Administration was created to oversee the programmatic management, financial management and administration of non-disaster grants. These programs help make the country more resilient and support the Nation's needs before, during, and after disasters. Non-disaster grants also help develop and sustain capabilities at the state, local, Tribal, and territorial levels to mitigate, prevent, protect against, respond to, and recover from terrorism or other high-consequence disasters and emergencies. The instruments in this collection are required to apply for FEMA funds and the data collected through these instruments is used by FEMA to evaluate grant applications, assess applicant risk, monitor awards for compliance, and comply with Federal laws and regulations. OGA manages and ensures accountability of FEMA preparedness grant programs under sections 430, 503(b)(2)(G), 504(a)(12), 2021-2023, and 2220-A of the Homeland Security Act of 2002. OGA programmatically manages and financially administers certain non-disaster and preparedness grants and conduct environmental planning and historic preservation activities for these grants, including homeland security and preparedness grants (including statutory authority for certain waivers) pursuant to titles V, XVIII, and XX of the Homeland Security Act of 2002; section 503(b)(2)(B), (G), and (H) of the Homeland Security Act of 2002 (6 U.S.C. 313(b)(2)(B), (G), and (H)); section 1809 of the Homeland Security Act of 2002 (6 U.S.C. 579); titles XIV and XV of the Implementing Recommendations of the 9/11 Commission Act of 2007; 46 U.S.C. 70107; sections 635 and 662 of the Post-Katrina Emergency Management Reform Act of 2006 (6 U.S.C. 723 and 762); title VI of the Stafford Act, as amended; Reorganization Plan No. 3 of 1978, 5 U.S.C. app.; sections 33 and 34 of the Federal Fire Prevention and Control Act of 1974, as amended (15 U.S.C. 2229, 2229a); section 3006 of the Deficit Reduction Act of 2005, as amended; section 204 of the REAL ID Act of 2005; the Coronavirus Aid, Relief, and Economic Security Act, Div. B (Pub. L. 116-136); and grant programs authorized in annual appropriations acts or future preparedness grant program authorities.

FEMA's Office of Grants Administration is submitting this request for a generic collection to streamline integration of stakeholder feedback on instruments. This collection will ensure all Office of Management and Budget (OMB) control number expiration dates are aligned across the OGA portfolio.

Collection of Information

Title: Generic Clearance for FEMA's Preparedness Grant Programs.

Type of Information Collection: New Collection.

OMB Number: 1660-NW172.

FEMA Forms: Not Applicable.

Abstract: FEMA's Office of Grants Administration was created to oversee the programmatic management, financial management, and administration of non-disaster grants. Non-disaster grant programs help make the country more resilient and support the nation's needs before, during, and after disasters. Non-disaster grants help develop and sustain capabilities at the state and local, tribal, and territorial levels to mitigate, prevent, protect against, respond to, and recover from terrorism or other high-consequence disasters and emergencies. Instruments in this collection are required to apply for FEMA funds; data collected via the instruments is used by FEMA to evaluate grant applications, assess applicant risk, monitor awards for compliance, and comply with Federal laws and regulations.

Affected Public: State, Local or Tribal Government; Businesses or other For-profits; Not-for Profit institutions.

Estimated Number of Respondents: 35,552.

Estimated Number of Responses: 55,244.

Estimated Total Annual Burden Hours: 1,737,291.

Estimated Total Annual Respondent Cost: $100,067,963.

Estimated Respondents' Operation and Maintenance Costs: $0.

Estimated Respondents' Capital and Start-Up Costs: $0.

Estimated Total Annual Cost to the Federal Government: $3,090,494.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-27196 Filed 12-11-23; 8:45 am]

BILLING CODE 9111-23-P